DEPARTMENT OF HEALTH AND HUMAN SERVICES

Substance Abuse and Mental Health Services Administration

Notice of Request for Applications for Minority Fellowship Program (MFP) Grants

AGENCY: Substance Abuse and Mental Health Services Administration, HHS.

ACTION: Notice of request for applications for Minority Fellowship Program (MFP) grants.

Authority: Sections 509, 516 and 520A of the Public Health Service Act.

SUMMARY: The Substance Abuse and Mental Health Services Administration (SAMHSA), Center for Mental Health Services (CMHS), Center for Substance Abuse Treatment (CSAT), and Center for Substance Abuse Prevention (CSAP), are accepting applications for Fiscal Year 2004 grants to facilitate entry of ethnic minority students into mental health and substance abuse disorders careers and increases the number of psychology, psychiatry, nursing, and social work professionals trained to teach, administer, conduct services research, and provide direct mental health/substance abuse services to ethnic/racial/social/cultural minority groups. For purposes of this Request for Applications (RFA), ethnic/racial/social/cultural minority groups include the following: American Indians, Native Alaskans, Asian Americans, Native Hawaiians, Native Pacific Islanders, African Americans and Hispanics/Latinos, who are hereafter referred to as ethnic minorities or minorities.

DATES: Applications are due on June 7, 2004.

FOR FURTHER INFORMATION CONTACT: For questions on program issues contact: Paul Wohlford, Ph.D., SAMHSA/CMHS, Division of State & Community Systems Development, 5600 Fishers Lane, Room 15C-26, Rockville, MD 20857; Phone: (301) 443-3503; E-mail: pwohlfor@samhsa.gov; or Herbert Joseph, Ph.D., M.P.H., SAMHSA/CMHS, Division of State & Community Systems Development, 5600 Fishers Lane, Room 15C-26, Rockville, MD 20857; Phone: 301-443-4257; E-mail: hjoseph@samhsa.gov.

For questions on grants management issues contact: Gwendolyn Simpson, SAMHSA/Division of Grants Management, 5600 Fishers Lane, Room 13-103, Rockville, MD 20857; Phone: (301) 443-4456; E-mail: gsimpson@samhsa.gov.

SUPPLEMENTARY INFORMATION:

Minority Fellowship Program—(SM 04-001) (Initial)

Catalogue of Federal Domestic Assistance (CFDA) No.: No. 93.244.

Key Dates
Application deadline | Applications are due by June 7, 2004.
Intergovernmental Review (E.O. 12372) | Letters from State Single Point of Contact (SPOC) are due no later than August 6, 2004.
Public Health System Impact Statement (PHSIS)/SSA Coordination | Applicants must send the PHSIS to appropriate State and local health agencies by application deadline. Comments from Single State Agency are due no later than August 6, 2004.

Table of Contents

I. Funding Opportunity Description

1. Introduction

2. Expectations

II. Award Information

1. Award Amount

2. Funding Mechanism

III. Eligibility Information

1. Eligible Applicants

2. Cost-sharing

3. Other

IV. Application and Submission Information

1. Address to Request Application Package

2. Content and Form of Application Submission

3. Submission Dates and Times

4. Intergovernmental Review (E.O. 12372) Requirements

5. Funding Limitations/Restrictions

6. Other Submission Requirements

V. Application Review Information

1. Evaluation Criteria

2. Review and Selection Process

VI. Award Administration Information

1. Award Notices

2. Administrative and National Policy Requirements

3. Reporting Requirements

VII. Agency Contacts

Appendix A: Checklist for Formatting Requirements and Screenout Criteria for SAMHSA Grant Applications

Appendix B: Performance Measures for Minority Fellowship Program

Appendix C: Trainee Stipends

I. Funding Opportunity Description

1. Introduction

As authorized under Sections 509, 516 and 520A of the Public Health Service Act, SAMHSA announces the availability of funds for the Minority Fellowship Program (MFP) grants. The MFP facilitates entry of ethnic minority students into mental health and substance abuse disorders careers and increases the number of psychology, psychiatry, nursing, and social work professionals trained to teach, administer, conduct services research, and provide direct mental health/substance abuse services to ethnic/racial/social/cultural minority groups. For purposes of this Request for Applications (RFA), ethnic/racial/social/cultural minority groups include the following: American Indians, Native Alaskans, Asian Americans, Native Hawaiians, Native Pacific Islanders, African Americans and Hispanics/Latinos, who are hereafter referred to as ethnic minorities or minorities.

2. Expectations

The overall program goal of the MFP is to facilitate entry of ethnic minority students into mental health and substance abuse disorders careers and to increase the number of psychology, psychiatry, nursing, and social work professionals trained to teach, administer, conduct services research, and provide direct mental health/substance abuse services to ethnic minority groups. The MFP has two target populations:

• The ultimate target populations are ethnic minority persons with mental and/or substance abuse disorders who are presently underserved.

• The intermediary target populations are trainees receiving MFP support who will, later in their careers, directly and/or indirectly serve the ultimate target populations.

2.1 Background

The mental health and substance abuse needs of minority communities within the United States have been historically underserved by trained practitioners sensitive to the cultural issues or equipped with the language skills that impact effective services delivery. In 1974, the National Institute of Mental Health (NIMH) established the MFP to enhance services to minority mental health professionals in psychiatry, nursing, social work, and psychology. In 1992, SAMHSA was established, and the MFP was transferred from NIMH to CMHS in SAMHSA.

While ethnic minority groups continue to increase in absolute numbers and as a proportion of the general population (more than 25 percent), the number of professionally trained minority mental health providers and service researchers (currently around 8 percent) is not increasing in a similar manner. Moreover, relatively few minority students pursue higher professional degrees. The lack of trained ethnic minority professionals is considered to be a significant factor in the lack of access and utilization of minority communities to appropriate health care, including mental health and substance abuse treatment and prevention services.

2.2 Program Plan

Goals. To reduce disparities in mental health/substance abuse services, the goals of the MFP are to:

(1) Create a nucleus of doctoral-level ethnic minority behavioral health professionals who will provide leadership, consultation, training, evaluation of programs, and services administration expertise to State and community agencies, primary care provider organizations, and educational institutions to ensure delivery of the highest quality treatment and prevention services to minorities with mental health and substance abuse disorders. Specifically, programs should work toward the goal of having all MFP Fellows trained in the latest Evidence-based Practices (EBP) in mental health and substance abuse treatment and prevention.

(2) Collaborate with national mental health and substance abuse organizations to provide training support and to enhance interdisciplinary efforts that will increase quality of care and access to mental health and substance abuse treatment and prevention services in underserved minority communities; specifically, programs should work toward the goal of having all MFP Fellows well-trained in both mental health and substance abuse treatment and prevention.

(3) Ensure that training is consistent with the latest EBP developments in culturally competent, behavioral health delivery, and financing mechanisms. SAMHSA defines cultural competency as a set of behaviors, skills, attitudes, and policies that promote awareness, acceptance, and respect for differences; continued knowledge development about other cultures; and adaptable models of service delivery to meet the needs of diverse ethnic minority populations.

(4) Expand training for the evaluation of treatment and prevention programs from the standpoint of ethnic minority consumers who have mental health and/or substance abuse issues.

(5) Enlarge the scope of the program, address the issue of the small number of minority students who pursue higher professional degrees, and increase the pool of available qualified applicants for MFP Fellowships.

2.3 Allowable Activities

SAMHSA's Minority Fellowship Program grants will support the following types of activities:

(1) Develop and administer an MFP program that supports doctoral-level training in mental health and substance abuse prevention and treatment services to minorities, with an emphasis on providing evidence-based treatment and prevention in managed behavioral health care settings.

(2) Establish an advisory committee for the discipline-specific MFP, including minority consumers, to provide consultation and guidance to the MFP, serve as planner and overseer, review both new and renewal student support applications, and select MFP fellows for each funded grant year.

(3) Work with accredited, professional graduate schools to recruit ethnic minority students who are committed to serving minorities with mental health and substance abuse disorders, with particular attention given to bilingual/bicultural individuals.

(4) Collaborate with other professional organizations and educational institutions to increase the pool of available qualified MFP applicants and to facilitate information dissemination concerning the MFP and its program goals and outcomes.

(5) Encourage doctoral students in schools of behavioral health to specialize in areas where personnel shortages frequently occur within minority communities (e.g., child/adolescent and geriatric mental health and substance abuse services; impact of poverty on the mental health needs of minority communities; mental health services to minority communities in inner cities or rural areas; services or treatment for minority persons with serious mental illness or co-occurring substance abuse and mental health disorders).

(6) Provide training opportunities to MFP Fellows in settings that involve ethnic minority consumers and families in the planning and implementation of treatment and prevention service programs and involve training in evaluation to improve services.

2.4 Data and Performance Measurement

The Government Performance and Results Act of 1993 (Pub. L. 103-62, or “GPRA”) requires all Federal agencies to:

• Develop strategic plans that specify what they will accomplish over a 3- to 5-year period;

• Set annual performance targets related to their strategic plan; and

• Report annually on the degree to which the previous year's targets were met.

The law further requires agencies to link their performance to their budgets. Agencies are expected to evaluate their programs regularly and to use the results of these evaluations to explain their successes and failures.

To meet these requirements, SAMHSA must collect performance data (i.e., “GPRA” data) from grantees. You are required to report these GPRA data to SAMHSA on a timely basis so that performance results are available to support budgetary decisions. In your application, you must demonstrate your ability to collect and report on these measures, and you must provide some baseline data.

Appendix B provides the performance indicators for SAMHSA's MFP grantees. You can obtain more detailed information about how to collect and report on these measures by contacting the Government Project Officer listed below.

Before making a grant award, a final agreement regarding data collection will be reached. The terms and conditions of the grant award will specify the data to be submitted and the schedule for submission. Grantees will be required to adhere to these terms and conditions of award.

2.4 Grantee Meetings

You must plan to send a minimum of two people (including the Project Director) to at least one joint grantee meeting in each year of the grant, and you must include funding for this travel in your budget. At these meetings, grantees will present the results of their projects, and Federal staff will provide technical assistance. Each meeting will be 2 to 3 days. These meetings usually will be held in the Washington, DC, area, and attendance is mandatory.

2.5 Evaluation

Grantees must evaluate their projects, and applicants are required to describe their evaluation plans in their applications. The evaluation should be designed to provide regular feedback to the project in order to improve services. Therefore, the evaluation must include the required performance measures described above. The evaluation must include both process and outcome components. Process and outcome evaluations must measure change relating to project goals and objectives over time, compared with baseline information. Control or comparison groups are not required. You must consider your evaluation plan when preparing the project budget. No more than 10 percent of the total grant award may be used for evaluation and data collection.

Process components should address issues such as:

• How closely did implementation match the plan?

• What types of deviations from the plan occurred?

• What led to the deviations?

• What impact did the deviations have on the intervention and evaluation?

• Who provided (program, staff) what training (modality, type, intensity, duration), to whom (individual characteristics), in what context (system, community), and at what cost (facilities, personnel, dollars)?

Outcome components should address issues such as:

• What were the effects of the training program on the professional career development of individual MFP Fellows? (e.g., direct service, supervision, administration, teaching, research, etc.)

• What program/contextual factors were associated with outcomes?

• What individual factors were associated with outcomes?

• How durable were the effects?

II. Award Information

1. Award Amount

It is expected that $3.3 million will be available for up to four Minority Fellowship Program awards in FY 2004. Annual awards are expected to be up to $950,000 per year in total costs (direct and indirect). Applicants may request a project period of up to three years.

Proposed budgets cannot exceed $950,000 in any year of the proposed budget. Annual continuation awards will depend on the availability of funds, grantee progress in meeting project goals and objectives, and timely submission of required data and reports.

2. Funding Mechanism

Awards will be made as grants.

III. Eligibility Information

1. Eligibile Applicants

Eligibility is limited to the American Nurses Association (ANA), the American Psychiatric Association (ApA), American Psychological Association (APA), and the Council on Social Work Education (CSWE). These professional organizations have unique access to students entering their respective professions. The fields of psychiatric nursing, psychiatry, psychology, and social work have been recognized nationally for decades as the four core behavioral health disciplines, providing part of an essential core of services for individuals with serious mental illness and also less severe mental disorders. The ANA, ApA, and APA are the largest national professional organizations in the country for nursing, psychiatry, and psychology, respectively. The ANA, ApA, and APA and their affiliates have activities in all major areas of national policies affecting nursing, psychiatry, and psychology as professions, including education and training. In the field of social work, the CSWE is the leading national organization that focuses just on the education and training of social workers, and it maintains a close working relationship with the National Association of Social Workers, the largest professional social work organization in the country.

All four organizations, the ANA, ApA, APA, and CSWE, along with their affiliates, have direct involvement in curriculum development, school accreditation, and pre-/post-doctoral training. All four have had decades of experience in working directly with university training programs from which the pools of participants are selected. These are the only organizations that have the infrastructure and expertise in place to administer this program. They already have mechanisms and databases in place to identify minority students. All four organizations have developed relationships with appropriate minority professional organizations that may serve as useful liaisons; for instance, APA has developed relationships with the Association of Black Psychologists, Native American Psychological Association, Hispanic Psychological Association, and Asian American Psychological Association. Each organization assists APA in identifying pools of qualified applicants.

Because of their unique characteristics and long history, these four organizations, the ANA, ApA, APA, and CSWE, were chosen more than 25 years ago as the exclusive representatives for education/training in their respective fields. During that time, they have administered their MFP programs exceptionally well. They have recruited excellent students, assured that all program requirements were satisfied, and effectively monitored the progress of fellows during and after the fellowship period. Their MFP Fellows have been successful in addressing the MFP goals of providing leadership in the delivery of mental health/substance abuse services to ethnic minority communities. These MFP grantees continue to operate in their unique position of representing this core mental health and substance abuse discipline exceptionally well. Therefore, eligibility has been restricted to only these four organizations.

2. Cost-Sharing

Cost-sharing is not required in this program, and applications will not be screened out on the basis of cost-sharing.

3. Other

Applications must comply with the following requirements or they will be screened out and will not be reviewed: Use of the PHS 5161-1 application; application submission requirements in section IV-3 of this document; and formatting requirements provided in section IV-2.3 of this document.

IV. Application and Submission Information

(To ensure that you have met all submission requirements, a checklist is provided for your use in Appendix A of this document.)

1. Address To Request Application Package

An application will be sent to each of the four eligible applicants. Also, you may request a complete application kit by calling one of SAMHSA's national clearinghouses:

• For substance abuse prevention or treatment grants, call the National Clearinghouse for Alcohol and Drug Information (NCADI) at 1-800-729-6686.

• For mental health grants, call the National Mental Health Information Center at 1-800-789-CMHS (2647).

You also may download the required documents from the SAMHSA Web site at www.samhsa.gov. Click on “grant opportunities.”

Additional materials available on the SAMHSA Web site include:

• A technical assistance manual for potential applicants;

• Standard terms and conditions for SAMHSA grants;

• Guidelines and policies that relate to SAMHSA grants (e.g., guidelines on cultural competence, consumer and family participation, and evaluation); and

• Enhanced instructions for completing the PHS 5161-1 application.

2. Content and Form of Application Submission

2.1 Required Documents

SAMHSA application kits include the following documents:

• PHS 5161-1 (revised July 2000)—Includes the face page, budget forms, assurances, certification, and checklist. You must use the PHS 5161-1. Applications that are not submitted on the PHS 5161-1 will be screened out and will not be reviewed.

• Request for Applications (RFA)—Provides specific information about the availability of funds, along with instructions for completing the grant application. This document is the RFA. The RFA will be available on the SAMHSA Web site (www.samhsa.gov). You must use all of the above documents in completing your application.

2.2 Required Application Components

To ensure equitable treatment of all applications, applications must be complete. In order for your application to be complete, it must include the required ten components: (Face Page, Abstract, Table of Contents, Budget Form, Project Narrative and Supporting Documentation, Appendices, Assurances, Certifications, Disclosure of Lobbying Activities, and Checklist.

• Face Page—Use Standard Form (SF) 424, which is part of the PHS 5161-1.

Note: Beginning October 1, 2003, applicants will need to provide a Dun and Bradstreet (DUNS) number to apply for a grant or cooperative agreement from the Federal Government. SAMHSA applicants will be required to provide their DUNS number on the face page of the application. Obtaining a DUNS number is easy and there is no charge. To obtain a DUNS number, access the Dun and Bradstreet Web site at www.dunandbradstreet.com, or call 1-866-705-5711. To expedite the process, let Dun and Bradstreet know that you are a public/private nonprofit organization getting ready to submit a Federal grant application.

• Abstract—Your total abstract should not be longer than 35 lines. In the first five lines or less of your abstract, write a summary of your project that can be used, if your project is funded, in publications, reports to Congress, or press releases.

• Table of Contents—Include page numbers for each of the major sections of your application and for each appendix.

• Budget Form—Use SF 424A, which is part of the 5161-1. Fill out sections B, C, and E of the SF 424A.

• Project Narrative and Supporting Documentation—The Project Narrative describes your project. It consists of sections A through C. These sections in total may not be longer than 25 pages. More detailed instructions for completing each section of the Project Narrative are provided in “Section V—Application Review Information” of this document.

The Supporting Documentation provides additional information necessary for the review of your application. This supporting documentation should be provided immediately following your Project Narrative in Sections D through G. There are no page limits for these sections, except for Section F, Biographical Sketches/Job Descriptions.

• Section D—Literature Citations. This section must contain complete citations, including titles and all authors, for any literature you cite in your application.

• Section E—Budget Justification, Existing Resources, Other Support. You must provide a narrative justification of the items included in your proposed budget, as well as a description of existing resources and other support you expect to receive for the proposed project. Be sure to show that no more than 20% of the total grant award will be used for data collection and evaluation.

• Section F—Biographical Sketches and Job Descriptions.

—Include a biographical sketch for the Project Director and other key positions. Each sketch should be 2 pages or less. If the person has not been hired, include a letter of commitment from the individual with a current biographical sketch.

—Include job descriptions for key personnel. Job descriptions should be no longer than 1 page each.

—Sample sketches and job descriptions are listed on page 22, Item 6 in the Program Narrative section of the PHS 5161-1.

• Section G—Confidentiality and SAMHSA Participant Protection/Human Subjects. Section IV-2.4 of this document describes requirements for the protection of the confidentiality, rights and safety of participants in SAMHSA-funded activities. This section also includes guidelines for completing this part of your application.

Appendices 1 through 9—Use only the appendices listed below. Do not use more than 30 pages for Appendices 1, 3, 4, 6, 8 and 9. There are no page limitations for Appendices 5 and 7. Do not use appendices to extend or replace any of the sections of the Project Narrative unless specifically required in the NOFA. Reviewers will not consider them if you do.

—Appendix 1: Letters of Coordination/Support

—Appendix 2: Literature Citations

—Appendix 3: Sample Consent Forms

—Appendix 4: Letter to the SSA (if applicable; see Section IV-4 of this document)

—Appendix 5: Employment of Past Fellows

—Appendix 6: Students Entering and Leaving Program

—Appendix 7: Current Fellows

—Appendix 8: Evaluation of the Program

—Appendix 9: Implementation Schedule

• Assurances—Non-Construction Programs. Use Standard Form 424B found in PHS 5161-1.

• Certifications—Use the “Certifications” forms found in PHS 5161-1.

• Disclosure of Lobbying Activities—Use Standard Form LLL found in the PHS 5161-1. Federal law prohibits the use of appropriated funds for publicity or propaganda purposes, or for the preparation, distribution, or use of the information designed to support or defeat legislation pending before the Congress or State legislatures. This includes “grass roots” lobbying, which consists of appeals to members of the public suggesting that they contact their elected representatives to indicate their support for or opposition to pending legislation or to urge those representatives to vote in a particular way.

• Checklist—Use the Checklist found in PHS 5161-1. The Checklist ensures that you have obtained the proper signatures, assurances and certifications and is the last page of your application.

2.3 Application Formatting Requirements

Applicants also must comply with the following basic application requirements. Applications that do not comply with these requirements will be screened out and will not be reviewed.

• Information provided must be sufficient for review.

• Text must be legible.

• Type size in the Project Narrative cannot exceed an average of 15 characters per inch, as measured on the physical page. (Type size in charts, tables, graphs, and footnotes will not be considered in determining compliance.)

• Text in the Project Narrative cannot exceed 6 lines per vertical inch.

• Paper must be white paper and 8.5 inches by 11.0 inches in size.

• To ensure equity among applications, the amount of space allowed for the Project Narrative cannot be exceeded.

• Applications would meet this requirement by using all margins (left, right, top, bottom) of at least one inch each, and adhering to the 25-page limit for the Project Narrative.

• Should an application not conform to these margin or page limits, SAMHSA will use the following method to determine compliance: The total area of the Project Narrative (excluding margins, but including charts, tables, graphs and footnotes) cannot exceed 58.5 square inches multiplied by 25. This number represents the full page less margins, multiplied by the total number of allowed pages.

• Space will be measured on the physical page. Space left blank within the Project Narrative (excluding margins) is considered part of the Project Narrative, in determining compliance.

• The 30-page limit for Appendices 1, 3, 4, 6, 8 and 9 cannot be exceeded.

To facilitate review of your application, follow these additional guidelines. Failure to adhere to the following guidelines will not, in itself, result in your application being screened out and returned without review. However, following these guidelines will help reviewers to consider your application.

• Pages should be typed single-spaced with one column per page.

• Pages should not have printing on both sides.

• Please use black ink and number pages consecutively from beginning to end so that information can be located easily during review of the application. The cover page should be page 1, the abstract page should be page 2, and the table of contents page should be page 3. Appendices should be labeled and separated from the Project Narrative and budget section, and the pages should be numbered to continue the sequence.

• Send the original application and two copies to the mailing address in section IV-6.1 of this document. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

2.4 SAMHSA Confidentiality and Participant Protection Requirements and Protection of Human Subjects Regulations

You must describe your procedures relating to Confidentiality and Participant Protection and the Protection of Human Subjects Regulations in Section G of your application, using the guidelines provided below. Problems with confidentiality, participant protection, and protection of human subjects identified during peer review of your application may result in the delay of funding.

Confidentiality and Participant Protection. All applicants must address each of the following elements relating to confidentiality and participant protection. You must document how you will address these requirements or why they do not apply.

(1) Protection of Clients and Staff from Potential Risks

• Identify and describe any foreseeable physical, medical, psychological, social, legal, or other risks or adverse effects.

• Discuss risks that are due either to participation in the project itself or to the evaluation activities.

• Describe the procedures you will follow to minimize or protect participants against potential risks, including risks to confidentiality.

• Identify plans to provide help if there are adverse effects on participants.

• Where appropriate, describe alternative treatments and procedures that may be beneficial to the participants. If you choose not to use these other beneficial treatments, provide the reasons for not using them.

(2) Fair Selection of Participants

• Describe the target population(s) for the proposed project. Include age, gender, and racial/ethnic background and note if the population includes homeless youth, foster children, children of substance abusers, pregnant women, or other groups.

• Explain the reasons for including groups of pregnant women, children, people with mental disabilities, people in institutions, prisoners, or others who are likely to be vulnerable to HIV/AIDS.

• Explain the reasons for including or excluding participants.

• Explain how you will recruit and select participants. Identify who will select participants.

(3) Absence of Coercion

• Explain if participation in the project is voluntary or required. Identify possible reasons why it is required (e.g., court orders requiring people to participate in a program).

• If you plan to pay participants, state how participants will be awarded money or gifts.

• State how volunteer participants will be told that they may receive services even if they do not participate in the project.

(4) Data Collection

• Identify from whom you will collect data (e.g., participants themselves, family members, teachers, or others). Describe the data collection procedures and specify the sources for obtaining data (e.g., school records, interviews, psychological assessments, questionnaires, observation, or other sources). Where data are to be collected through observational techniques, questionnaires, interviews, or other direct means, describe the data collection setting.

• Identify what type of specimens (e.g., urine, blood) will be used, if any. State if the material will be used just for evaluation or if other use(s) will be made. Also, if needed, describe how the material will be monitored to ensure the safety of participants.

(5) Privacy and Confidentiality

• Explain how you will ensure privacy and confidentiality. Identify who will collect data and how it will be collected.

• Describe:

—How you will use data collection instruments.

—Where data will be stored.

—Who will or will not have access to information.

—How the identity of participants will be kept private (e.g., using a coding system on data records, limiting access to records, or storing identifiers separately from data).

Note: If applicable, grantees must agree to maintain the confidentiality of alcohol and drug abuse client records, according to the provisions of title 42 of the Code of Federal Regulations, part II.

(6) Adequate Consent Procedures

• List what information will be given to people who participate in the project. Include the type and purpose of their participation. Identify the data that will be collected, how the data will be used, and how you will keep the data private.

• State:

—Whether or not participation is voluntary.

—The right of participants to leave the project at any time without problems.

—Possible risks from participation in the project.

—Plans to protect clients from these risks.

• Explain how you will get consent for youth, the elderly, people with limited reading skills, and people who do not use English as their first language.

Note: If the project poses potential physical, medical, psychological, legal, social, or other risks, you must get written informed consent.

• Indicate if you will get informed consent from participants or from their parents or legal guardians. Describe how the consent will be documented. For example: Will you read the consent forms? Will you ask prospective participants questions to be sure they understand the forms? Will you give them copies of what they sign?

• Include, as appropriate, sample consent forms that provide for: (1) Informed consent for participation in service intervention; (2) informed consent for participation in the data collection component of the project; and (3) informed consent for the exchange (releasing or requesting) of confidential information. The sample forms must be included in Appendix 3, “Sample Consent Forms”, of your application. If needed, give English translations.

Note: Never imply that the participant waives or appears to waive any legal rights, may not end involvement with the project, or releases your project or its agents from liability for negligence.

• Describe, if separate consents will be obtained for different stages or parts of the project. For example, will consents be needed for both participant protection in treatment intervention and for the collection and use of data?

• Additionally, if other consents (e.g., consents to release information to others or gather information from others) will be used in your project, provide a description of the consents. Will individuals who do not consent to having individually identifiable data collected for evaluation purposes be allowed to participate in the project?

(7) Risk/Benefit Discussion

Discuss why the risks are reasonable when compared with the expected benefits and importance of the knowledge from the project.

Protection of Human Subjects Regulations. Applicants may have to comply with the Protection of Human Subjects Regulations (45 CFR 46), depending on the evaluation and data collection requirements of the particular funding opportunity for which the applicant is applying or the evaluation design proposed in the application. The NOFA will indicate whether all applicants for a particular funding opportunity must comply with the Protection of Human Subject Regulations.

Applicants must be aware that even if the Protection of Human Subjects Regulations do not apply to all projects funded under a given funding opportunity, the specific evaluation design proposed by the applicant may require compliance with these regulations.

Applicants whose projects must comply with the Protection of Human Subjects Regulations must describe the process for obtaining Institutional Review Board (IRB) approval fully in their applications. While IRB approval is not required at the time of grant award, these applicants will be required, as a condition of award, to provide the documentation that an Assurance of Compliance is on file with the Office for Human Research Protections (OHRP) and that IRB approval has been received prior to enrolling any clients in the proposed project.

Additional information about Protection of Human Subjects Regulations can be obtained on the Web at http://ohrp.osophs.dhhs.gov. You may also contact OHRP by e-mail (ohrp@osophs.dhhs.gov) or by phone (301-496-7005).

3. Submission Dates and Times

Applications are due by close of business on June 7, 2004. Your application must be received by the application deadline. Applications sent through postal mail and received after this date must have a proof-of-mailing date from the carrier dated at least 1 week prior to the due date. Private metered postmarks are not acceptable as proof of timely mailing.

You will be notified by postal mail that your application has been received.

Applications not received by the application deadline or not postmarked a week prior to the application deadline will be screened out and will not be reviewed.

4. Intergovernmental Review (E.O. 12372) Requirements

Executive Order 12372, as implemented through Department of Health and Human Services (DHHS) regulation at 45 CFR part 100, sets up a system for State and local review of applications for Federal financial assistance. A current listing of State Single Points of Contact (SPOCs) is included in the application kit and is available at www.whitehouse.gov/omb/grants/spoc.html

• Check the list to determine whether your State participates in this program. You do not need to do this if you are a federally recognized Indian tribal government.

• If your State participates, contact your SPOC as early as possible to alert him/her to the prospective application(s) and to receive any necessary instructions on the State's review process.

• For proposed projects serving more than one State, you are advised to contact the SPOC of each affiliated State.

• The SPOC should send any State review process recommendations to the following address within 60 days of the application deadline: Substance Abuse and Mental Health Services Administration, Office of Program Services, Review Branch, 5600 Fishers Lane, Room 17-89, Rockville, Maryland, 20857, ATTN: SPOC—Funding Announcement No. SM 04-001.

In addition, community-based, non-governmental service providers who are not transmitting their applications through the State must submit a Public Health System Impact Statement (PHSIS) (approved by OMB under control no. 0920-0428; see burden statement below) to the head(s) of appropriate State or local health agencies in the area(s) to be affected no later than the pertinent receipt date for applications. The PHSIS is intended to keep State and local health officials informed of proposed health services grant applications submitted by community-based, non-governmental organizations within their jurisdictions. State and local governments and Indian tribal government applicants are not subject to these requirements.

The PHSIS consists of the following information:

• A copy of the face page of the application (SF 424); and

• A summary of the project, no longer than one page in length, that provides: (1) A description of the population to be served, (2) a summary of the services to be provided, and (3) a description of the coordination planned with appropriate State or local health agencies.

For SAMHSA grants, the appropriate State agencies are the Single State Agencies (SSAs) for substance abuse and mental health. A listing of the SSAs can be found on SAMHSA's Web site at www.samhsa.gov. If the proposed project falls within the jurisdiction of more than one State, you should notify all representative SSAs.

Applicants who are not the SSA must include a copy of a letter transmitting the PHSIS to the SSA in Appendix 4, “Letter to the SSA.” The letter must notify the State that, if it wishes to comment on the proposal, its comments should be sent not later than 60 days after the application deadline to: Substance Abuse and Mental Health Services Administration, Office of Program Services, Review Branch, 5600 Fishers Lane, Room 17-89, Rockville, Maryland, 20857, ATTN: SSA—Funding Announcement No. [fill in pertinent funding opportunity number from NOFA].

In addition:

• Applicants may request that the SSA send them a copy of any State comments.

• The applicant must notify the SSA within 30 days of receipt of an award.

[Public reporting burden for the Public Health System Reporting Requirement is estimated to average 10 minutes per response, including the time for copying the face page of SF 424 and the abstract and preparing the letter for mailing. An agency may not conduct or sponsor, and a person is not required to respond to, a collection of information unless it displays a currently valid OMB control number. The OMB control number for this project is 0920-0428. Send comments regarding this burden to CDC Clearance Officer, 1600 Clifton Road, MS D-24, Atlanta, GA 30333, ATTN: PRA (0920-0428).]

5. Funding Limitations/Restrictions

Cost principles describing allowable and unallowable expenditures for Federal grantees, including SAMHSA grantees, are provided in the following documents:

• Institutions of Higher Education: OMB Circular A-21.

• State and Local Governments: OMB Circular A-87.

• Nonprofit Organizations: OMB Circular A-122.

• Appendix E Hospitals: 45 CFR Part 74.

In addition, SAMHSA MFP grant recipients must comply with the following funding restrictions:

• Grant funds must be used for purposes supported by the program.

• No more than 10 percent of the grant award may be used for evaluation and data collection expenses.

• Grant funds may not be used to pay for the purchase or construction of any building or structure to house any part of the grant project.

6. Other Submission Requirements

6.1 Where To Send Applications

Send applications to the following address: Substance Abuse and Mental Health Services Administration, Office of Program Services, Review Branch, 5600 Fishers Lane, Room 17-89, Rockville, Maryland, 20857.

Be sure to include the name of the program: Minority Fellowship Program and the RFA #: SM 04-001 in item number 10 on the face page of the application. If you require a phone number for delivery, you may use (301) 443-4266.

6.2 How To Send Applications

Mail an original application and two copies (including appendices) to the mailing address provided above. The original and copies must not be bound. Do not use staples, paper clips, or fasteners. Nothing should be attached, stapled, folded, or pasted.

You must use a recognized commercial or governmental carrier. Hand-carried applications will not be accepted. Faxed or e-mailed applications will not be accepted.

V. Application Review Information

1. Evaluation Criteria

Your application will be reviewed and scored against the requirements listed below for developing the Project Narrative (Sections A-C). These sections describe what you intend to do with your project.

• In developing the Project Narrative section of your application, use these instructions, which have been tailored to this program. These are to be used instead of the “Program Narrative” instructions found in the PHS 5161-1.

• You must use the four sections/headings listed below in developing your Project Narrative. Be sure to place the required information in the correct section, or it will not be considered. Your application will be scored according to how well you address the requirements for each section.

• Reviewers will be looking for evidence of cultural competence in each section of the Project Narrative. Points will be assigned based on how well you address the cultural competence aspects of the evaluation criteria. SAMHSA's guidelines for cultural competence can be found on the SAMHSA Web site at www.samhsa.gov. Click on “Grant Opportunities.”

• The Supporting Documentation you provide in Sections D-G and Appendices 1-9 will be considered by reviewers in assessing your response, along with the material in the Project Narrative.

The number of points after each heading below is the maximum number of points a review committee may assign to that section of your Project Narrative. Bullet statements in each section do not have points assigned to them. They are provided to invite the attention of applicants and reviewers to important areas within each section.

Section A: Project Description With Supporting Documentation (30 Points)

Statement of the Problem/Issues: Describe the problem/issue that will be addressed relevant to the program goals and target populations. Provide data about the supply of and demand for behavioral health professionals to serve minority populations, including specific information for the subgroups, as listed in the Introduction section on page four. The applicant also should demonstrate a need to resolve the problem/issue and the potential impact if not resolved.

Target Population: The applicant should define both target populations as listed in the Expectations section on page four.

Purpose and Goals: Provide a comprehensive framework and description of all aspects of the proposed project. More specifically:

(1) Clearly state the purpose of the proposed project and how it will address the stated problem/issue and achieve the goals of the MFP.

(2) State the goals and objectives, using an outline form, including specific recruitment goals for each minority population.

(3) Clearly state how the proposed project will contribute to the field, including innovations to increase the supply of, and to recruit, retain, and prepare graduate students to serve the most vulnerable minority populations.

Section B: Project Plan (40 Points)

Design: Describe specific approaches for accomplishing each of the goals outlined in the Purpose and Goals section above. These approaches should include a comprehensive implementation plan to meet the overall MFP goals. All applications must address the four areas below. In addition, the application may include other activities to meet MFP goals within available funding levels.

(1) General: The application should include the following:

a. A description of the content, methods, and organization of the training program in relation to the program goals.

b. A strategy of recruitment based on greatest demonstrated need, e.g., that bilingual/bicultural applicants may be in short supply.

c. An explanation of how didactic and experiential learning opportunities (e.g., clinical training and/or field work) will be provided in the following areas: linguistic and cultural sensitivity and competencies; services to minorities with mental health and substance abuse disorders and one or more additional underserved priority populations, including adults with serious mental illness, children with serious emotional disturbance, older adults and minority populations with mental health and substance abuse disorders living in rural communities; and services research.

d. A description of how MFP fellows will be trained for leadership roles (i.e., administrative, services research, or program development).

e. A description of how opportunities for enrichment activities, professional socialization, and other networking will be provided in the training settings.

f. The criteria for eligibility in the MFP and a rationale for these criteria.

g. A description of how the design is culturally competent.

h. A description of consumer involvement in training programs.

i. A description of innovations to increase the supply of qualified applicants.

(2) Fellows: The applicant also must provide a plan for:

a. Providing counseling to potential applicants to assist them in their election of training institutions. The plan should identify admissions requirements of the institutions.

b. Describing the methods for recruiting and selecting candidates and methods for enhancing the supply of, and the retention and graduation, of fellows.

c. Monitoring fellows' clinical and research training/experiences to ensure they complete the program. The plan should describe reporting requirements from the training institutions.

d. Providing support and supervision of the fellows, including a description of reporting and evaluation requirements from the fellows and a summary of findings from past evaluations.

e. Monitoring practices and internships to ensure that fellows obtain optimal mental health and substance abuse training related to the target populations.

f. Monitoring the requirement that fellows focus their dissertation topics on the needs of minorities with mental health and substance abuse disorders and other underserved populations (children, adolescents, elderly, rural populations).

(3) Training Record: The applicant must provide a record of fellows that have been in the MFP over the last 10 years (including the current grant year). The report must provide:

a. In both summary and tabular form, in Appendix 5, Employment of Past Fellows, a list of types of jobs, especially those related to public mental health and addictions services to underserved populations, locations, other professional activities, etc.

b. In Appendix 6, Students Entering and Leaving Program, reporting by year, sex, and ethnicity, the numbers of students admitted to the program, graduated, terminated before graduation, still in training, and disabled.

c. In Appendix 7, Current Fellows, a description and list of fellows, by ethnicity and gender, who were admitted to the program during this period and those currently in training.

d. An historical rate of attrition in the discipline's MFP and efforts to deal with this important training issue.

(4) Evaluation of the Program: Provide an evaluation plan in Appendix 8 to assess the project's achievement of program goals. In particular, the plan should describe how the applicants are selected to ensure that different ethnic minority populations are represented.

Section C. Project Management: Implementation Plan, Organization, Staff, Equipment/Facilities, and Other Support (30 Points)

Implementation Plan: Describe in Appendix 9, Implementation Schedule, the management/implementation schedule for this project. Complete an implementation plan time line that includes specific activities, target dates for completion, and responsible staff.

Organization: Appendix 1, Letters of Coordination/Support, should document collaborative capacity or efforts to collaborate with other organizations, including minority, mental health, substance abuse, etc. Describe the administrative program structure and distribution of responsibilities.

Staff: Describe the proposed staffing plan, and specify how the proposed staffing pattern and qualifications and experience of the staff and Advisory Committee are appropriate and adequate for implementation of the project. Explain how staff is culturally competent in relation to the students they will be recruiting.

Equipment/Facilities: Describe the adequacy and availability of resources, and provide evidence that the activities and services are accessible.

Other Support: If applicable, describe any additional resources that will be utilized to implement this project.

Note: Although the budget for the proposed project is not a review criterion, the Review Group will be asked to comment on the budget after the merits of the application have been considered.

2. Review and Selection Process

SAMHSA applications are peer-reviewed, according to the review criteria listed above. For those programs where the individual award is more than $100,000, applications also must be reviewed by the appropriate National Advisory Council.

Decisions to fund a grant are based on:

• Strengths and weaknesses of the application, as identified by the Peer Review Committee and, when necessary, approved by the appropriate National Advisory Council;

• Availability of funds;

• After applying the aforementioned criteria, the following method for breaking ties: When funds are not available to fund all applications with identical scores, SAMHSA will make award decisions based on the application(s) that received the greatest number of points by peer reviewers on the evaluation criterion in Section V-1 with the highest number of possible points, Section B. Project Plan (40 points). Should a tie still exist, the evaluation criterion with the next highest possible point value will be used, continuing sequentially to the evaluation criterion with the lowest possible point value, should that be necessary to break all ties. If an evaluation criterion to be used for this purpose has the same number of possible points as another evaluation criterion, the criterion listed first in Section V-1 will be used first.

VI. Award Administration Information

1. Award Notices

After your application has been reviewed, you will receive a letter from SAMHSA through postal mail that describes the general results of the review, including the score that your application received.

If you are approved for funding, you will receive an additional notice, the Notice of Grant Award, signed by SAMHSA's Grants Management Officer. The Notice of Grant Award is the sole obligating document that allows the grantee to receive Federal funding for work on the grant project. It is sent by postal mail and is addressed to the contact person listed on the face page of the application.

If you are not funded, you can reapply if there is another receipt date for the program.

2. Administrative and National Policy Requirements

2.1 General Requirements

• You must comply with all terms and conditions of the grant award. SAMHSA's standard terms and conditions are available on the SAMHSA Web site at www.samhsa.gov/grants/2004/useful_info.asp.

• Depending on the nature of the specific funding opportunity and/or the proposed project as identified during review, additional terms and conditions may be identified in the NOFA or negotiated with the grantee prior to grant award. These may include, for example:

—Actions required to be in compliance with human subjects requirements;

—Requirements relating to additional data collection and reporting;

—Requirements relating to participation in a cross-site evaluation; or

—Requirements to address problems identified in review of the application.

• You will be held accountable for the information provided in the application relating to performance targets. SAMHSA program officials will consider your progress in meeting goals and objectives, as well as your failures and strategies for overcoming them, when making an annual recommendation to continue the grant and the amount of any continuation award. Failure to meet stated goals and objectives may result in suspension or termination of the grant award, or in reduction or withholding of continuation awards.

• In an effort to improve access to funding opportunities for applicants, SAMHSA is participating in the U.S. Department of Health and Human Services “Survey on Ensuring Equal Opportunity for Applicants.” This survey is included in the application kit for SAMHSA grants. Applicants are encouraged to complete the survey and return it, using the instructions provided on the survey form.

3. Reporting Requirements

3.1 Progress and Financial Reports

• Grantees must provide annual and final progress reports. The final progress report must summarize information from the annual reports, describe the accomplishments of the project, and describe next steps for implementing plans developed during the grant period.

• Grantees must provide annual and final financial status reports. These reports may be included as separate sections of annual and final progress reports or can be separate documents. Since SAMHSA is extremely interested in ensuring that infrastructure development and enhancement efforts can be sustained, your financial reports must explain plans to ensure the sustainability of efforts initiated under this grant. Initial plans for sustainability should be described in year 1 of the grant. In each subsequent year, you should describe the status of the project, successes achieved, and obstacles encountered in that year.

• SAMHSA will provide guidelines and requirements for these reports to grantees at the time of award and at the initial grantee orientation meeting after the award. SAMHSA staff will use the information contained in the reports to determine the grantee's progress toward meeting its goals.

3.2 Government Performance and Results Act

The Government Performance and Results Act (GPRA) mandates accountability and performance-based management by Federal agencies. To meet the GPRA requirements, SAMHSA must collect performance data (i.e., “GPRA data”) from grantees. The performance requirements for SAMHSA's MFP grants are described in Section I-2.2 under “Data and Performance Measurement” of this document.

3.3 Publications

If you are funded under this grant program, you are required to notify the Government Project Officer (GPO) and SAMHSA's Publications Clearance Officer (301-443-8596) of any materials based on the SAMHSA-funded project that are accepted for publication.

In addition, SAMHSA requests that grantees:

• Provide the GPO and SAMHSA Publications Clearance Officer with advance copies of publications.

• Include acknowledgment of the SAMHSA grant program as the source of funding for the project.

• Include a disclaimer stating that the views and opinions contained in the publication do not necessarily reflect those of SAMHSA or the U.S. Department of Health and Human Services and should not be construed as such.

SAMHSA reserves the right to issue a press release about any publication deemed by SAMHSA to contain information of program or policy significance to the substance abuse treatment/substance abuse prevention/mental health services community.

VII. Agency Contacts for Additional Information

For questions about program issues, contact:

Paul Wohlford, Ph.D., Project Officer, Div. of State & Community Systems Development, Center for Mental Health Services, 5600 Fishers Lane, Room 15C-26, Rockville, MD 20857, (301) 443-3503, E-Mail: pwohlfor@samhsa.gov.

or:

Herbert Joseph, Ph.D., M.P.H., Alternate Project Officer, Div. of State & Community Systems Development, Center for Mental Health Services, 5600 Fishers Lane, Room 15C-26, Rockville, MD 20857, (301) 443-4257, E-Mail: hjoseph@samhsa.gov.

For questions on grants management issues, contact: Gwendolyn Simpson, SAMHSA/Division of Grants Management, 5600 Fishers Lane, Room 13-103, Rockville, MD 20857, (301) 443-4456, E-mail: gsimpson@samhsa.gov.

Appendix A—Checklist for Formatting Requirements and Screenout Criteria for SAMHSA Grant Applications

SAMHSA's goal is to review all applications submitted for grant funding. However, this goal must be balanced against SAMHSA's obligation to ensure equitable treatment of applications. For this reason, SAMHSA has established certain formatting requirements for its applications. If you do not adhere to these requirements, your application will be screened out and returned to you without review. In addition to these formatting requirements, programmatic requirements (e.g., relating to eligibility) may be stated in the specific funding announcement. Please check the entire funding announcement before preparing your application.

• Use the PHS 5161-1 application.

• Applications must be received by the application deadline. Applications received after this date must have a proof of mailing date from the carrier dated at least 1 week prior to the due date. Private metered postmarks are not acceptable as proof of timely mailing. Applications not received by the application deadline or not postmarked at least 1 week prior to the application deadline will not be reviewed.

• Information provided must be sufficient for review.

• Text must be legible.

• Type size in the Project Narrative cannot exceed an average of 15 characters per inch, as measured on the physical page. (Type size in charts, tables, graphs, and footnotes will not be considered in determining compliance.)

• Text in the Project Narrative cannot exceed 6 lines per vertical inch.

• Paper must be white paper and 8.5 inches by 11.0 inches in size.

• To ensure equity among applications, the amount of space allowed for the Project Narrative cannot be exceeded.

• Applications would meet this requirement by using all margins (left, right, top, bottom) of at least one inch each, and adhering to the page limit for the Project Narrative stated in the specific funding announcement.

• Should an application not conform to these margin or page limits, SAMHSA will use the following method to determine compliance: The total area of the Project Narrative (excluding margins, but including charts, tables, graphs and footnotes) cannot exceed 58.5 square inches multiplied by the total number of allowed pages. This number represents the full page less margins, multiplied by the total number of allowed pages.

• Space will be measured on the physical page. Space left blank within the Project Narrative (excluding margins) is considered part of the Project Narrative, in determining compliance.

• The page limit for Appendices stated in the specific funding announcement cannot be exceeded.

To facilitate review of your application, follow these additional guidelines. Failure to adhere to the following guidelines will not, in itself, result in your application being screened out and returned without review. However, the information provided in your application must be sufficient for review. Following these guidelines will help ensure your application is complete, and will help reviewers to consider your application.

• The 10 application components required for SAMHSA applications should be included. These are:

• Face Page (Standard Form 424, which is in PHS 5161-1)

• Abstract

• Table of Contents

• Budget Form (Standard Form 424A, which is in PHS 5161-1)

• Project Narrative and Supporting Documentation

• Appendices

• Assurances (Standard Form 424B, which is in PHS 5161-1)

• Certifications (a form in PHS 5161-1)

• Disclosure of Lobbying Activities (Standard Form LLL, which is in PHS 5161-1)

• Checklist (a form in PHS 5161-1)

• Applications should comply with the following requirements:

• Provisions relating to confidentiality, participant protection and the protection of human subjects specified in Section IV-2.4 of the specific funding announcement.

• Budgetary limitations as specified in Sections I, II, and IV-5 of the specific funding announcement.

• Documentation of nonprofit status as required in the PHS 5161-1.

• Pages should be typed single-spaced with one column per page.

• Pages should not have printing on both sides.

• Please use black ink, and number pages consecutively from beginning to end so that information can be located easily during review of the application. The cover page should be page 1, the abstract page should be page 2, and the table of contents page should be page 3. Appendices should be labeled and separated from the Project Narrative and budget section, and the pages should be numbered to continue the sequence.

• Send the original application and two copies to the mailing address in the funding announcement. Please do not use staples, paper clips, and fasteners. Nothing should be attached, stapled, folded, or pasted. Do not use heavy or lightweight paper or any material that cannot be copied using automatic copying machines. Odd-sized and oversized attachments such as posters will not be copied or sent to reviewers. Do not include videotapes, audiotapes, or CD-ROMs.

Appendix B: Performance Indicators for the Minority Fellowship Program (MFP)

Training Record: The applicant must provide a record of all fellows in the MFP over the last 10 years (including the current grant year). The report must include the following:

Employment of Past Fellows

Provide, in both summary and tabular form, in Appendix 5, Employment of Past Fellows, a list of types of jobs, especially those related to mental health and addictions services to underserved populations, public/private locations, other professional activities, etc.

Attrition of Students From Training Programs

Attrition of Students from Training Programs is calculated from Appendix 6, Students Entering and Leaving Program. Provide information about all students, reporting by year, sex, and ethnicity the numbers of students admitted to the program, graduated, terminated before graduation, still in training, and disabled. Also, provide an historical rate of attrition in the discipline's MFP and efforts to deal with this important training issue.

Current Fellows

Provide in Appendix 7, Current Fellows, a description and list of fellows, by ethnicity and gender, who were admitted to the program during this period and those currently in training.

Evaluation of the Program

Provide an evaluation plan to assess the project's achievement of program goals in Appendix 8. In particular, the plan should describe how the applicants are selected to ensure that different ethnic minority populations are represented.

Appendix C: Trainee Stipends

Stipends are intended to assist trainees in meeting subsistence expenses and to enable them to pursue training on a full-time basis. The amount of this stipend is generally determined by the academic status of the appointee. Stipends for full-time trainees enrolled in training programs leading to or based on a degree are as follows (NIH, 3/7/03):

Career level | Stipend for FY 2003
Undergraduates:
Freshmen/Sophomores | $ 7,296
Juniors/Seniors | 10,224
Pre-doctoral | 19,968
Post-doctoral
Years of Relevant Experience
0 | $34,200
1 | 36,108
2 | 40,920
3 | 42,648
4 | 44,364
5 | 46,404
6 | 48,444
7 or more | 50,808

For purposes of determining appropriate stipend levels for subsequent years, prior years under a SAMHSA clinical training grant will count as “years of relevant experience.” Relevant experience is considered to be activities beyond the doctoral degree such as an internship, residency, teaching, or providing services in the specific area of training, etc. For trainees who receive a SAMHSA training program stipend award for the first time in a second or later year of study, the level of support shall be determined by the relevant experience gained before initial entry into the program, plus another year of experience for each year already spent in full-time participation in the program.

Stipends for full-time trainees enrolled in programs that are not degree-related may be paid commensurate with the trainee's career status and experience in accordance with the above schedule. Maximum support for any trainee is $44,412 per year, prorated according to the length of the program.

For the MFP, the above rates may be used as ceilings rather than as levels. This deviation has been permitted to allow MFP training directors with the flexibility to use stipends to support greater numbers of trainees under these grants.

Other Trainee Costs

In addition to stipends, the applicant may request funds for trainee travel. Trainee travel costs are allowable only between the training institution and field training sites. The MFP applicant may request travel for trainees to attend professional meetings.

Dated: April 1, 2004.
Daryl Kade,
Director, Office of Policy Planning and Budget, Substance Abuse and Mental Health Services Administration.

[FR Doc. 04-7816 Filed 4-6-04; 8:45 am]

BILLING CODE 4162-20-P